DEPARTMENT OF DEFENSE

Department of the Army; Corps of Engineers

Intent To Prepare a Draft Environmental Impact Statement (DEIS) for Great Salt Lake Minerals Corporation's Solar Evaporation Pond Expansion Project Within the Great Salt Lake, Box Elder County, UT

AGENCY: Department of the Army; U.S. Army Corps of Engineers, DoD.

ACTION: Notice of intent.

SUMMARY: In accordance with the National Environmental Policy Act (NEPA), the U.S. Army Corps of Engineers (Corps), Sacramento District, will prepare a draft Environmental Impact Statement (DEIS) for Corps authorization actions for the proposed Great Salt Lake Minerals Solar Evaporation Ponds Expansion project. The overall project purpose is to expand extraction capability for potassium at the Great Salt Lake Mineral Corporation's facilities. The proposed expansion would add approximately 33,000 acres of solar evaporative ponds, impacting approximately 30,713.75 acres of waters of the United States, and reducing the need to import raw potassium from other sources. The DEIS will address impacts such as wildlife habitat, water quality, Great Salt Lake water elevations, wetlands, hydrology, cultural resources, transportation, endangered species and industry.

DATES: The projected date for public release of the DEIS is October 2008. Three public scoping meetings will be held. The first scoping meeting will be held on November 7, 2007 from 5-9 p.m. The second public meeting will be on November 8, 2007 from 5-9 p.m. The third meeting will be held on November 14, 2007 from 5-9 p.m.

ADDRESSES: The November 7 meeting will be held at South Davis Junior High School, 298 West 2600 South, Bountiful, Utah. The November 8 meeting will be held at the Ogden Nature Center, 966 W. 12th Street, Ogden, Utah. The November 14 meeting will be held at the Airport Inn Hotel, 2333 W. North Temple Street, Salt Lake City, Utah. Written comments may be mailed to Mr. Jason Gipson, 533 West 2600 South, Suite 150, Bountiful, Utah 84010. All comments must be received on or before December 2, 2007.

FOR FURTHER INFORMATION CONTACT: Questions about the proposed action and the DEIS should be directed to the Corps project manager, Mr. Jason Gipson at 801-295-8380 x14, or e-mail at jason.a.gipson@usace.army.mil. Please refer to identification number 200700121.

SUPPLEMENTARY INFORMATION: Great Salt Lake Minerals Corporation (GSLM) has applied for Department of the Army authorization under Section 404 of the Clean Water Act. The project as proposed may also require other Federal, State and local authorizations including Utah State Public Lands Lease Agreements.

Great Salt Lake Minerals Corporation currently operates approximately 43,000 acres of evaporative ponds located on the east and west shores of the Great Salt Lake. A 21,000-acre evaporation facility is located on the west shore of the North Arm of the Great Salt Lake and a 22,000-acre evaporation facility is located on the east shore of the Bear River Bay. The existing solar evaporation ponds facilities are located within the Great Salt Lake, i.e., the ponds are located below 4205 mean sea level, which is below the high water mark of the Great Salt Lake. These facilities allow the Corporation to extract about one-half of the potassium needed in their production of potassium sulfate. The company draws naturally occurring brine from the lake into shallow ponds and allows solar evaporation to produce sulfate of potash, as well as salt and magnesium chloride minerals. Sulfate of potash is a specialty fertilizer that improves the yield and quality of high-value crops such as fruits, vegetables, tea, tree nuts and turf grasses. The Great Salt Lake facility has operated on the lake for 40 years. At present, the remainder of the potassium is imported from other sources. The proposed expansion of the solar ponds will allow Great Salt Lake Minerals to reduce or discontinue their reliance on imported potassium.

The applicant is proposing to construct three additional solar evaporation ponds totaling approximately 33,000 acres. The proposed project includes an 8,000-acre pond on the east side of the Great Salt Lake in the Bear River Bay. Brine would be pumped to and from the new pond with existing pump stations; however, the capacity of these pump stations would be increased proportional to the new pond acreage. Additional feed brine for this new pond would come from the North Arm of the Great Salt Lake (Gunnison Bay), flowing through existing east side ponds.

In addition, on the west side of the lake, two new solar ponds would be added to the existing west side complex, an 18,000-acre Dolphin Island expansion pond and a 7,000-acre pond at the southern end of Clyman Bay between the Union Pacific Railway and several existing ponds. A new feed canal into the lake and a new pump station would be constructed on the north end of the proposed Dolphin Island pond. Diesel driven pumps, similar to those currently in use, would pump brine from the new feed canal to the new pond. Existing pumps would be used to pump brine from the new pond to an existing pond. The total 25,000-acre pond expansion on the west side would increase the concentration of brine transferred to an existing gravity-flow trench for transport to the east ponds in the Bear River Bay.

Dikes would be built to accommodate the pond expansion and impound the waters of the respective areas. On the east side of the lake approximately 540,000 cubic yards of fill would be discharged into Bear River Bay to create the dikes. On the west side of the lake, dike construction would require approximately 900,000 cubic yards of fill to be discharged into open water in the vicinity of Clyman Bay.

The proposed project areas currently include saline open water, sporadically inundated playa lakebed, seasonally flooded playa, saline wetlands, rip-rapped dikes and sandy upland habitats. These areas are located adjacent to the existing evaporation pond facilities. The Corps of Engineers verified a delineation on October 10, 2007 which identified approximately 34,180.08 acres of waters of the United States, including 21.4 acres of saline wet meadow wetlands, 1,102.94 acres of seasonally inundated playa above the high water mark of the western side of the Great Salt Lake and 33,055.74 acres of seasonally or sporadically inundated playa lake bed below the high water mark of the Lake. The applicant asserts that approximately 30,713.75 acres of waters would be lost due to project construction under the proposed alternative.

The applicant has not proposed compensatory mitigation for project impacts. The determination of appropriate compensatory mitigation will be determined through public scoping and impact analysis of the EIS process.

The proposed project will not affect any Federally-listed threatened or endangered species, however, it may affect state-listed special status species. Once a habitat assessment of the areas has been completed, the Corps will consult with state and Federal wildlife agencies. The Corps will also consult with the State Historic Preservation Officer under Section 106 of the National Historic Preservation Act for properties listed or potentially eligible for listing on the National Register of Historic Places, as appropriate.

A number of on-site and off-site alternatives, including the no action alternative, will be evaluated in the DEIS in accordance with NEPA and the Section 404(b)(1) guidelines.

As part of the Corps 404 permitting process, three pre-application interagency meetings were held to provide information and identify issues and concerns. In addition, a meeting was held with local environmental organizations for the same purposes. Preliminary issues identified as part of this process include: Water quality, heavy metals, nutrient loading, fresh water exchange, changes in salinity, and brine shrimp habitat and economic issues. Additionally, potential avian impacts were identified to waterfowl, shorebirds, and raptors including the American white pelican, snowy plover, Canada goose, and others.

The above determinations are based on information provided by the applicant and upon the Corps' preliminary review. The Corps is soliciting verbal and written comments from the public, Federal, States and local agencies and officials, Native American tribes, and other interested parties in order to consider and evaluate the impacts of this proposed activity. The Corps' public involvement program includes multiple opportunities for interested parties to provide written and oral comments. Affected Federal, State, local agencies, Indian tribes, and other interested private organizations and the general public are invited to participate.

Dated: October 24, 2007.
Michael S. Jewell,
Chief, Regulatory Branch, Sacramento District, Corps of Engineers.

[FR Doc. 07-5437 Filed 10-31-07; 8:45 am]

BILLING CODE 3710-EH-P